DEPARTMENT OF THE INTERIOR

Bureau of Land Management

[LLCON04000 L16100000.DP0000]

Notice of Availability of the Proposed Resource Management Plan and Final Environmental Impact Statement for the Colorado River Valley Field Office, Colorado

AGENCY: Bureau of Land Management, Interior.

ACTION: Notice of availability.

SUMMARY: In accordance with the National Environmental Policy Act of 1969, as amended, and the Federal Land Policy and Management Act of 1976, as amended, the Bureau of Land Management (BLM) has prepared a Proposed Resource Management Plan (RMP)/Final Environmental Impact Statement (EIS) for the Colorado River Valley Field Office (CRVFO) and by this notice is announcing its availability.

DATES: BLM planning regulations state that any person who meets the conditions as described in the regulations may protest the BLM's Proposed RMP/Final EIS. A person who meets the conditions and files a protest must file the protest within 30 days of the date that the Environmental Protection Agency publishes its Notice of Availability of the Proposed RMP/Final EIS in the Federal Register.

ADDRESSES: The BLM has sent copies of the CRVFO Proposed RMP/Final EIS to affected Federal, State, and local government agencies; other stakeholders; tribal governments; and members of the public who have requested copies. Copies of the Proposed RMP/Final EIS are available for public inspection at the Colorado River Valley Field Office, 2300 River Frontage Road, Silt, CO 81652; BLM Colorado Northwest District Office, 2815 H Road, Grand Junction, CO 81506; and Garfield County libraries in Carbondale, Glenwood Springs, New Castle, Silt, and Rifle. Interested persons may also review the Proposed RMP/Final EIS on the Internet at: http://www.blm.gov/co/st/en/fo/crvfo.html. All protests must be in writing and mailed to one of the following addresses:

Regular Mail: BLM Director (210), Attention: Protest Coordinator, WO-210, P.O. Box 71383, Washington, DC 20024-1383.

Overnight Delivery: BLM Director (210), Attention: Protest Coordinator, WO-210, 20 M Street SE., Room 2134LM, Washington, DC 20003.

FOR FURTHER INFORMATION CONTACT: Brian Hopkins, Planning and Environmental Coordinator; telephone 970-876-9073; Colorado River Valley Field Office (see address above); email BLM_CO_SI_CRVFO_Webmail@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The CRVFO RMP revision covers lands and Federal mineral estate across six Colorado counties: Eagle, Garfield, Mesa, Pitkin, Routt, and Rio Blanco. Management decisions outlined in this RMP revision apply only to BLM-managed surface lands (approximately 505,200 acres) and to BLM-managed Federal mineral estate (approximately 701,200 acres) that may lie beneath other Federal, State, and private surface ownership with the exception of National Forest lands. The Proposed RMP will replace the 1984 Glenwood Springs Resource Area RMP. The BLM made the Draft RMP/EIS available for a 90-day public comment period on September 9, 2011. Due to several requests, the comment period was extended until January 17, 2012, and then again to February 29, 2012, for a total of 166 days. The Draft RMP/EIS described and analyzed a series of goals, objectives, and management actions within four management alternatives designed to address new management challenges and issues raised during scoping. The four alternatives analyzed in the Draft RMP/EIS were:

• Alternative A: Continues existing management practices (no action alternative).

• Alternative B: (Preferred Alternative) seeks to allocate public land resources among competing human interests and land uses with the conservation of natural and cultural resource values.

• Alternative C: Emphasizes improving, rehabilitating and restoring resources while sustaining the ecological integrity of habitats for priority, federally-listed, proposed, candidate, and threatened and endangered plant, wildlife, and fish species.

• Alternative D: Emphasizes a mix of uses centered on making the most of resources that target social and economic outcomes while protecting land health. Management direction would recognize and expand existing uses, and accommodate new uses to the greatest extent possible.

Alternative B (Proposed RMP) in the Final EIS is based on Alternative B (Preferred Alternative) from the Draft RMP/EIS, however, it includes elements of the other alternatives analyzed in the Draft RMP/EIS.

The Proposed RMP would provide comprehensive, long-range decisions for the use and management of resources in the planning area administered by the BLM's CRVFO and focus on the principles of multiple use and sustained yield.

The Proposed RMP includes: Goals, objectives, management actions, allowable uses and implementation decisions to ensure future BLM management supports the protection of areas of critical environmental concern, special recreation management areas, extensive recreation management areas, wilderness study areas, and segments found suitable for inclusion in the National Wild and Scenic River System. Maps are included in the document to geographically illustrate the Proposed RMP and other alternatives considered in the Final EIS. The appendices provide comprehensive information on decisions contained in the Proposed RMP (e.g., special designations, travel management designations and stipulations applicable to fluid mineral development, surface-disturbing activities, surface use and occupancy) as well as supporting information (e.g., Final Wild and Scenic Rivers Suitability Report, Evaluation of Proposed Areas of Critical Environmental Concern) for the Final EIS.

The Roan Plateau portion of the CRVFO is being addressed through a separate planning process and therefore was not included in the decision area of the CRVFO Proposed RMP/Final EIS. However, the Proposed RMP/Final EIS does include draft Wild and Scenic Rivers suitability determinations for the stream segments in the Roan Plateau Planning Area. The Roan Plateau Supplemental EIS could contain additional analysis and information that may modify the draft Wild and Scenic Rivers suitability determinations contained in this document.

Consistent with BLM Manual 6400, Wild and Scenic Rivers, the CRVFO invited the White River National Forest (WRNF) to participate in the CRVFO RMP revision process for the analysis of Wild and Scenic Rivers because the BLM and the WRNF jointly analyzed Deep Creek for eligibility in 1995, and four of the eligible U.S. Forest Service river segments studied for suitability are directly upstream or downstream of river segments the BLM analyzed. The U.S. Forest Service will use this Final EIS to make suitability determinations for river segments on the WRNF. Those determinations will be documented in a separate Record of Decision issued by the USFS.

In addition to the CRVFO RMP revision, the BLM is also considering other decisions that could amend the CRVFO RMP. The BLM will make final decisions on how to manage Greater Sage-Grouse and their habitat in the Record of Decision for the Northwest Colorado BLM Greater Sage-Grouse Amendment/EIS. In the Record of Decision for the Amendment/EIS, the BLM will decide whether the CRVFO RMP should be amended, and if so, which decisions should be changed and how. The Draft EIS for the Amendment was released for public comment on August 16, 2013.

The BLM's changes to the Proposed RMP/Final EIS were largely in response to public comment on the Draft RMP/EIS. Cooperating agency reviews, resource advisory council reviews, U.S. Fish and Wildlife Service consultation, and extensive internal BLM reviews of the Proposed RMP/Final EIS also resulted in changes. The BLM carefully considered all comments and incorporated them into the Proposed RMP as appropriate. The BLM has determined that none of the changes, individually or collectively, constitute a substantial change in the proposed actions that requires preparing a supplement to the Draft EIS.

Instructions for filing a protest with the BLM Director regarding the Proposed RMP/Final EIS may be found in the CRVFO Proposed RMP/Final EIS “Dear Reader” Letter and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the emailed protest as an advance copy and it will receive full consideration. If you wish to provide the BLM with such advance notification, please direct emails to protests@blm.gov.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5.

Ruth Welch,
BLM Colorado Acting State Director.

[FR Doc. 2014-06334 Filed 3-21-14; 8:45 am]

BILLING CODE 4310-JB-P